SOCIAL SECURITY ADMINISTRATION

Privacy Act of 1974; Report of New Routine Use

AGENCY: Social Security Administration (SSA).

ACTION: Notification of New Routine Use.

SUMMARY: In accordance with the Privacy Act of 1974 (5 U.S.C. 552a(e)(4) and (11)), we are notifying the public of our intent to establish a new routine use of information maintained in the Privacy Act system of records entitled Master Files of Social Security Number (SSN) Holders and SSN Applications. The proposed new routine use allows SSA to verify SSNs for State bureau of vital statistics (BVS) in the States' Electronic Death Registration (EDR) process. The EDR process will assist SSA in making timely terminations of Social Security benefits in death cases.

DATES: We filed a report of the routine use proposal with the President of the Senate, the Speaker of the House of Representatives, and the Director, Office of Information and Regulatory Affairs, Office of Management and Budget on October 26, 2000. The proposed new routine use will become effective on December 5, 2000, unless we receive comments on or before that date which could result in a contrary determination.

ADDRESSES: Interested individuals may comment on this publication by writing to the SSA Privacy Officer, Social Security Administration, 3-A-6 Operations Building, 6401 Security Boulevard, Baltimore, Maryland 21235. All comments received will be available for public inspection at the above address.

FOR FURTHER INFORMATION CONTACT: Mrs. Patricia Smith, Office of Disclosure Policy, Social Security Administration, 6401 Security Boulevard, Baltimore, Maryland 21235, telephone (410) 965-1552 or E-mail at patgrimmett@gov.com.

SUPPLEMENTARY INFORMATION:

I. Discussion of the Proposed New Routine Use

A. General

SSA received funding in fiscal year 1999 to enter into a contract with the National Association for Public Health Statistics and Information Systems (NAPHSIS) to develop standards and guidelines for States to implement an Electronic Death Registration (EDR) Process. EDR will result in significant programmatic and workyear savings for SSA, in that, SSA will receive more accurate and timely death reports from the States.

Under EDR, SSA's requirements are to receive a death report from the State within 24 hours of receipt in the State bureau of vital statistics (BVS) and to verify the Social Security number (SSN) at the beginning of the death registration process. The result of the verification will be that the states will allow SSA to take an immediate termination action on those verified numbers without independently verifying the accuracy of the report.

There are many participants in the death registration process including hospitals, medical examiners, coroners, funeral homes and local and State registrars. The EDR process will require the participant who collects the SSN to transmit the request for verification to the State BVS who will forward the request to SSA. In most states, funeral directors are responsible by State law for certifying the accuracy of that portion of the death certificate. SSA will send a “yes” or a code response if the SSN does not verify. The codes are:

• 1—SSN not in file (never issued to anyone)

• 2—Name and date of birth (DOB) match, sex code does not

• 3—Name and sex code match, DOB does not

• 4—Name matches, DOB and sex code do not

• 5—Name does not match, DOB and sex code not checked.

The BVS will, in turn, forward the response to the original requestor. This will allow the funeral director or whoever made the request a chance to obtain better information from the informant in cases where the number does not verify.

Because our records will not have any indication of death at the time the SSN verifications are requested, we must treat the individuals' records as if they are alive. We, therefore, are proposing to establish a new routine use under the Privacy Act to permit the verifications. The proposed routine use is applicable to the Privacy Act system of records entitled Master Files of Social Security Numbers (SSN) and SSN Applications and will appear as routine use number 30 in the notice of the system. The routine use provides for the following disclosure:

Disclosures will be made to a State bureau of vital statistics (BVS) that is authorized by States to issue electronic death reports when the State BVS requests SSA to verify the Social Security number of an individual on whom an electronic death report will be filed after SSN verification.

B. Compatibility of the Proposed Routine Use

The Privacy Act (5 U.S.C. 552a(a)(7) and (b)(3)) and our disclosure regulation (20 CFR part 401) permits us to disclose information for routine uses; i.e., disclose information about individuals without their consents for purposes compatible with the purpose for which the information is collected. Section 401.150 of the regulation (20 CFR 401.150) allows us to disclose information under a routine use to administer our programs. The SSN verifications that will be made under the proposed routine use would allow SSA to receive timely death information from the States that will result in timely termination of Social Security benefits when Social Security beneficiaries die. Thus, the proposed routine use meets the compatibility criteria of the Privacy Act and our disclosure regulation.

I. Effect of the Proposed Routine Use on the Individuals Rights

Under the proposed routine use SSN verifications will be provided to State BVS for individuals for whom the BVS is preparing an electronic death report. Since the individuals would be dead, there would be no adverse effects on individual rights. In the event that an SSN verification may be inadvertently provided for an individual who is alive, the individual's rights would be protected through an agreement with the State BVS that restricts their use or disclosure of such information.

Kenneth S. Apfel,
Commissioner of Social Security.

[FR Doc. 00-28226 Filed 11-2-00; 8:45 am]

BILLING CODE 4910-29-U